DEPARTMENT OF EDUCATION

[Docket No.: ED-2024-SCC-0068]

Agency Information Collection Activities; Comment Request; Subminimum Wage to Competitive Integrated Employment (SWTCIE) Program Evaluation

AGENCY: Office of Special Education and Rehabilitative Services (OSERS), Department of Education (ED).

ACTION: Notice.

SUMMARY: In accordance with the Paperwork Reduction Act (PRA) of 1995, the Department is proposing a new information collection request (ICR).

DATES: Interested persons are invited to submit comments on or before July 8, 2024.

ADDRESSES: To access and review all the documents related to the information collection listed in this notice, please use http://www.regulations.gov by searching the Docket ID number ED-2024-SCC-0068. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Diandrea Bailey, 202-987-0126.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Subminimum Wage to Competitive Integrated Employment (SWTCIE) Program Evaluation.

OMB Control Number: 1820-NEW.

Type of Review: A new ICR.

Respondents/Affected Public: Individuals and households.

Total Estimated Number of Annual Responses: 4,866.

Total Estimated Number of Annual Burden Hours: 2,005.

Abstract: The U.S. Department of Education's Rehabilitation Services Administration (RSA) requests clearance for new data collection activities to support the evaluation of the Disability Innovation Fund (DIF) Subminimum Wage to Competitive Integrated Employment (SWTCIE) program. The aim of this project is to increase transitions to competitive integrated employment (CIE) among people working in subminimum wage employment (SWE)—or considering doing so—through innovative activities to build systemwide alternatives to subminimum wage employment. Advocacy, policy, and practice have evolved in recent decades toward a shift to CIE, as reflected in the Workforce Innovation and Opportunity Act and in the Consolidated Appropriations Act of 2021, which provides funding for the DIF SWITCIE program awarded in fiscal year 2022. This request covers primary data collection activities, including survey data, administrative data, site visits, and focus groups.

RSA's Training and Services Program Division (TSPD) contracted with Mathematica to assist RSA in evaluating the Federal fiscal year (FFY) 2022 DIF program. In September 2022, the RSA awarded five-year grants for the DIF (Assistance Listing Number 84.421D). The grants provide 14 State vocational rehabilitation (VR) agencies with funding to implement SWTCIE Innovative Model Demonstration projects to decrease SWE and increase CIE among people with disabilities currently employed in or contemplating SWE. To achieve this purpose, the projects will create innovative models for dissemination and replication to (1) identify strategies for addressing barriers associated with accessing CIE, (2) provide integrated services that support CIE, (3) support integration into the community through CIE, (4) identify and coordinate wraparound services for project participants who obtain CIE, (5) develop and disseminate evidence-based practices, and (6) provide entities holding section 14(c) certificates (which allows them to pay below the minimum wage for workers with disabilities that impair their productivity) with readily accessible transformative business models for adoption.

Dated: May 2, 2024.
Juliana Pearson,
PRA Coordinator, Strategic Collections and Clearance, Governance and Strategy Division, Office of Chief Data Officer, Office of Planning, Evaluation and Policy Development.

[FR Doc. 2024-09903 Filed 5-6-24; 8:45 am]

BILLING CODE 4000-01-P